DEPARTMENT OF TRANSPORTATION

Federal Aviation Administration

RTCA Special Committee 202: Portable Electronic Devices

AGENCY: Federal Aviation Administration (FAA), DOT.

ACTION: Notice of RTCA Special Committee 202 meeting.

SUMMARY: The FAA is issuing this notice to advise the public of a meeting of RTCA Special Committee 202: Portable Electronic Devices.

DATES: The meeting will be held on October 12-15, 2004 from 9 a.m. to 4:30 p.m.

ADDRESSES: The meeting will be held at RTCA, Inc., 1828 L Street, NW., Suite 805, Washington, DC 20036-5133.

FOR FURTHER INFORMATION CONTACT: RTCA Secretariat, 1828 L Street, NW., Suite 805, Washington, DC 20036-5133; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 202 meeting. The agenda will include:

October 12 and 15:

• Working Groups 1 through 4 meet all day.

October 14:

• Opening plenary session (welcome and introductory remarks, review agenda, review approve previous common plenary summary, review open action items).

• Update from EUROCAE Working Group WG-58.

• Report from Consumer Electronic Association (CEA) Discovery Group.

• Update from Regulatory Agencies (FAA, UK-CAA, Canadian TSB, or other members present).

• Update on completion of Phase I final draft document.

• Working Groups report out/reach working group will cover the following recommendations:

• Phase 2 work statement.

• Revisions to Terms of Reference (TOR).

• Revisions to committee structure.

• Work plan for Phase 2.

• Schedule for work plan.

• Working Group 1 (PEDs characterization, test, and evaluation).

• Working Group 2 (aircraft test and analysis).

• Working Group 3 (aircraft systems susceptibility).

• Working Group 4 (risk assessment, practical application, and final documentation).

• Human Factors sub-group.

• Committee consensus on Phase 2 work statement, committee structure, work plan, and schedule.

• Committee consensus on revisions to Terms of Reference (TOR).

• Preview of paper: “UWB EMI to Aircraft Radios: Field Evaluation on Operational Commercial Transport Airplanes” (Jay Ely et al).

October 14:

• Chairmen's Day 2 opening remarks and process check.

• Update on testing done by industry collaborative airplane testing group.

• Implanted Transmitting Medical Devices for Phase 2 work—technical parameters, typical usage and operational aspects.

• QUALCOMM/American Airlines CDMA proof of concept demonstration overview.

• Review open actions on document draft preparation for FRAC.

• Working Group breakout sessions as required.

• Closing session (other business, date and place of next meeting, closing remarks, adjourn).

Attendance is open to the interested public but limited to space availability. With the approval of the chairmen, members of the public may present oral statements at the meeting. Persons wishing to present statements or obtain information should contact the person listed in the for further information contact section. Members of the public may present a written statement to the committee at any time.

Issued in Washington, DC, on September 16, 2004.
Robert Zoldos,
FAA System Engineer, RTCA Advisory Committee.

[FR Doc. 04-22612 Filed 10-7-04; 8:45 am]

BILLING CODE 4910-13-M